DEPARTMENT OF AGRICULTURE

U.S. Codex Office

Codex Alimentarius Commission: Meeting of the Codex Committee on General Principles

AGENCY: U.S. Codex Office, U.S. Department of Agriculture.

ACTION: Notice of public meeting and request for comments.

SUMMARY: The U.S Codex Office is sponsoring a public meeting on May 1, 2025. The objective of the public meeting is to provide information and receive public comments on agenda items to be discussed at the 34th Session of the Codex Committee on General Principle (CCGP) of the Codex Alimentarius Commission (CAC), CCGP34 will be held in Lille, France, from June 2-6, 2025. The U.S. Manager for Codex Alimentarius and the Under Secretary for Trade and Foreign Agricultural Affairs recognize the importance of providing interested parties the opportunity to obtain background information on the 34th Session of the CCGP and to address items on the agenda.

DATES: The public meeting is scheduled for May 1, 2025, from 10 a.m.-12 p.m. ET.

ADDRESSES: The public meeting will take place via video teleconference only. Documents related to the 34th Session of the CCGP will be accessible via the internet at the following address: https://www.fao.org/fao-who-codexalimentarius/meetings/detail/en/?meeting=CCGP&session=34.

The U.S. Delegate to the 34th Session of the CCGP invites interested U.S. parties to submit their comments electronically to the following email address: uscodex@usda.gov or ken.lowery@usda.gov. Comments should state that they relate to the activities of the 34th Session of the CCGP.

Registration: Attendees may register to attend the public meeting at the following link: https://www.zoomgov.com/meeting/register/7Lxx6JqcQKm7hW3cTh7mrA. After registering, you will receive a confirmation email containing information about joining the meeting.

For further information about the 34th Session of the CCGP, contact Mr. Ken Lowery of the U.S. Codex Office, Office of the Under Secretary for Trade and Foreign Agricultural Affairs, U.S Department of Agriculture, at: ken.lowery@usda.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference for the Codex Committee on General Principles (CCGP) are:

To deal with such procedural and general matters as are referred to it by the Codex Alimentarius Commission, including:

(a) the review or endorsement of procedural provisions/texts forwarded by other subsidiary bodies for inclusion in the Procedural Manual of the Codex Alimentarius Commission; and

(b) the consideration and recommendation of other amendments to the Procedural Manual.

France hosts the CCGP. The United States attends the CCGP as a member country of Codex.

Issues To Be Discussed at the Public Meeting

The following items from the agenda for the 34th Session of the CCGP will be discussed during the public meeting:

• Matters arising from the Codex Alimentarius Commission and its subsidiary bodies

• Codex Procedural Manual: Review of inconsistencies in language and superseded content

○ Codex Procedural Manual: Review of the procedures in Section 3: Guidelines for subsidiary bodies

○ Codex Procedural Manual: Review of inconsistencies in language and superseded content, apart from Section 3

• Codex Procedural Manual: Update to the Guide to the procedure for the amendment and revision of Codex standards and related texts

• Proposed amendment to the principles concerning the participation of international non-governmental organizations in the work of the Codex Alimentarius Commission

• Codex Procedural Manual: Review of the potential use of existing provisions to promote more resource-efficient practices in the review of new-work proposals which do not fall within the remit of an active Codex committee

• Review of the application of the Criteria and procedural guidelines for Codex committees and ad hoc intergovernmental task forces working by correspondence

• Other Business

Public Meeting

At the May 1, 2025, public meeting, agenda items will be described and attendees will have the opportunity to pose questions and offer comments. Written comments may be offered at the meeting or sent to the U.S. Codex Office at: uscodex@usda.gov or to Ken Lowery of the U.S. Codex Office at ken.lowery@usda.gov. Written comments should state that they relate to activities of the 34th Session of the CCGP.

Additional Public Notification

Public awareness of all segments of rulemaking and policy development is important. Consequently, the U.S. Codex Office will announce this Federal Register publication on-line through the USDA Codex web page located at: https://www.usda.gov/codex.

Done at Washington, DC, on March 20, 2025.
Julie A. Chao,
Deputy U.S. Manager for Codex Alimentarius.

[FR Doc. 2025-05090 Filed 3-25-25; 8:45 am]

BILLING CODE 3420-3F-P